DEPARTMENT OF COMMERCE

National Oceanic and Atmospheric Administration

RIN 0648-XA970

Atlantic Highly Migratory Species; Atlantic Shark Management Measures; 2012 Research Fishery

AGENCY: National Marine Fisheries Service (NMFS), National Oceanic and Atmospheric Administration (NOAA), Commerce.

ACTION: Notice of public meeting.

SUMMARY: On October 31, 2011, NMFS published a notice inviting qualified commercial shark permit holders to submit an application to participate in the 2012 shark research fishery. The shark research fishery allows for the collection of fishery-dependent data for future stock assessments while also allowing NMFS and commercial fishermen to conduct cooperative research to meet the shark research objectives of the Agency. Every year, the permit terms and permitted activities (e.g., number of hooks and trip, retention limits) specifically authorized for selected participants in the shark research fishery are designated depending on the scientific and research needs of the Agency as well as the number of NMFS-approved observers available. In order to inform selected participants of this year's specific permit requirements and ensure all terms and conditions of the permit are met, NMFS is holding a mandatory permit holder meeting for selected participants. In this notice, NMFS announces the date and time of that meeting.

DATES: A conference call will be held on February 17, 2012.

ADDRESSES: A conference call will be conducted. See SUPPLEMENTARY INFORMATION for information on how to access the conference call.

FOR FURTHER INFORMATION CONTACT: Karyl Brewster-Geisz or Delisse Ortiz at (301) 427-8503, or online at http://www.nmfs.noaa.gov/sfa/hms/.

SUPPLEMENTARY INFORMATION: The Atlantic shark fisheries are managed under the authority of the Magnuson-Stevens Fishery Conservation and Management Act (Magnuson-Stevens Act). The 2006 Consolidated Highly Migratory species (HMS) Fishery Management Plan (FMP) is implemented by regulations at 50 CFR part 635.

The final rule for Amendment 2 to the Consolidated HMS FMP (73 FR 35778, June 24, 2008, corrected at 73 FR 40658, July 15, 2008) established, among other things, a shark research fishery to maintain time series data for stock assessments and to meet NMFS' research objectives. The shark research fishery gathers important scientific data and NMFS allows selected commercial fishermen the opportunity to earn more revenue from selling the sharks caught, including sandbar sharks. Only the commercial shark fishermen selected to participate in the shark research fishery are authorized to land/harvest sandbar sharks subject to the sandbar quota available each year. The sandbar shark base quota is 87.9 mt dw per year through December 31, 2012, although this number may be reduced in the event of overharvests, if any. The selected shark research fishery participants also have access to the non-sandbar large coastal sharks (LCS), small coastal sharks (SCS), and pelagic shark quotas subject to retention limits and quotas per §§ 635.24 and 635.27, respectively.

On October 31, 2011 (76 FR 67149), NMFS published a notice inviting qualified commercial shark permit holders to submit an application to participate in the 2012 shark research fishery. NMFS received 19 applications, of which 16 applicants were determined to meet all the qualifications. From the 16 qualified applicants, NMFS randomly selected 5 participants after considering how to meet research objectives in particular regions. During the annual application period, commercial shark permit holders (directed and incidental) are invited to submit an application to participate in the shark research fishery. NMFS expects to invite qualified commercial shark permit holders to submit an application for the 2013 shark research fishery later this year.

Every year, the permit terms and permitted activities (e.g., number of hooks and trip, retention limits) specifically authorized for selected participants in the shark research fishery are designated depending on the scientific and research needs of the Agency as well as the number of NMFS-approved observers available. In order to inform selected participants of this year's specific permit requirements and ensure all terms and conditions of the permit are met, per the requirements of § 635.32(f)(4), NMFS is holding a mandatory permit holder meeting via conference call.

The conference call will be held on February 17, 2012, from 3 to 5 p.m. Participants and interested parties should call 800-857-3903 and use the passcode 9425509. Selected participants who do not attend will not be allowed to participate in the shark research fishery. While the conference call is mandatory for selected participants, other interested parties may call in and listen to the discussion.

Dated: February 9, 2012.
James P. Burgess,
Acting Director, Office of Sustainable Fisheries, National Marine Fisheries Service.

[FR Doc. 2012-3423 Filed 2-13-12; 8:45 am]

BILLING CODE 3510-22-P